DEPARTMENT OF THE INTERIOR

Bureau of Land Management

[LLMTM03000-L14400000.ET0000 16X1109AF; MTM 82330]

Notice of Proposed Withdrawal Extension and Notice of Public Meeting; Montana

AGENCY: Bureau of Land Management, Interior.

ACTION: Notice.

SUMMARY: The Assistant Secretary of the Interior for Land and Minerals Management proposes to extend the duration of Public Land Order (PLO) No. 7254, as corrected, for an additional 20-year term. PLO No. 7254 withdrew 19,687 acres of public mineral estate in Toole and Liberty Counties, Montana, from location and entry under the United States mining law to provide enhanced protection of the unique resources within the Sweet Grass Hills Area of Critical Environmental Concern (ACEC) and surrounding areas. The lands have been and will remain open to the mineral and geothermal leasing laws and mineral materials disposal under the Materials Act. The withdrawal created by PLO No. 7254 will expire on April 9, 2017, unless it is extended. This notice amends the land description in PLO No. 7254 and gives an opportunity to comment on the proposed action. This notice also announces the date, time, and location of the public meeting to be held in conjunction with the proposed extension.

DATES: Comments must be received by April 6, 2016. The Bureau of Land Management (BLM) will hold a public meeting in connection with the proposed withdrawal extension on February 10, 2016.

ADDRESSES: Comments should be sent to the BLM Havre Field Manager, 3990 HWY 2 West, Havre, Montana 59501.

FOR FURTHER INFORMATION CONTACT: Micah Lee, BLM Havre Field Office, 406-262-2851, or Debby Sorg, BLM Montana/Dakotas State Office, 406-896-5045. Persons who use a telecommunications device for the deaf (TDD) may call the Federal Information Relay Service (FIRS) at 1-800-877-8339 to contact either of the above individuals. The FIRS is available 24 hours a day, 7 days a week, to leave a message or question with the above individuals. You will receive a reply during normal business hours.

SUPPLEMENTARY INFORMATION: The withdrawal created by PLO No. 7254 (62 FR 17633 (1997)), as corrected (62 FR 22964 (1997)), will expire April 9, 2017, unless it is extended, and is incorporated herein by reference. The BLM has filed an application requesting that the Assistant Secretary for Land and Minerals Management extend PLO No. 7254 for an additional 20-year term. PLO No. 7254 withdrew 19,687 acres of public mineral estate in Toole and Liberty Counties, Montana, from location and entry under the United States mining law, subject to valid existing rights. This notice amends the land description as the result of a resurvey due to the cancellation of mineral survey 3418. The public mineral estate withdrawn by PLO No. 7254 is now described as follows:

Principal Meridian, Montana

T. 37 N., R. 1 E.,

Sec. 1, lots 5 thru 8;

Sec. 2, lots 5 and 6, and S½SE¼;

Sec. 11, E½NE¼ and E½SE¼;

Sec. 12, lots 1 thru 8, S½NE¼, and S½NW¼;

Sec. 13, lots 1 thru 5, W½NE¼, NW¼, N½SW¼, SE¼SW¼, and W½SE¼;

Sec. 14, lots 1, 2, and 3, N½, SW¼, and N½SE¼;

Sec. 15, E½NE¼ and E½SE¼;

Sec. 22, E½NE¼;

Sec. 23, lot 1, E½NE¼, SW¼NE¼, NW¼, S½SW¼, and SE¼;

Sec. 24, lots 1 thru 4, W½NE¼, W½, and W½SE¼;

Sec. 25, lots 1 thru 10, SW¼NE¼, S½NW¼, N½SW¼, and NW¼SE¼;

Sec. 26, E½NE¼, N½NW¼, and S½;

Sec. 27, NE¼NE¼, S½NW¼, NE¼SW¼, and NW¼SE¼;

Sec. 34, NE¼NE¼;

Sec. 35, NE¼, E½NW¼, and SW¼NW¼.

T. 36 N., R. 2 E.,

Sec. 5, lot 4;

Sec. 6, lots 1 and 2, and SW¼NE¼;

Sec. 23, E½NE¼ and N½SE¼;

Sec. 24, SW¼NW¼ and W½SW¼;

Sec. 25, SE¼NE¼ and E½SE¼.

T. 37 N., R. 2 E.,

Sec. 5, lot 8;

Sec. 6, lots 6 thru 10;

Sec. 7, lots 1 thru 4, and E½SW¼;

Sec. 17, W½SW¼;

Sec. 18, SW¼NE¼, E½SE¼, and NW¼SE¼;

Sec. 19, lots 2, 3, and 4, NE¼NE¼, SE¼NW¼, and NE¼SW¼;

Sec. 20, NW¼NE¼ and N½NW¼;

Sec. 30, lots 1 thru 4, S½NE¼, SE¼NW¼, E½SW¼, and SE¼;

Sec. 31, lots 1, 2, and 3, NE¼, E½NW¼, NE¼SW¼, and N½SE¼.

T. 35 N., R. 3 E.,

Sec. 3, lot 4 and SW¼NW¼;

Sec. 4, lots 1 and 2, and S½NE¼.

T. 36 N., R. 3 E.,

Sec. 7, lot 2, SW¼NE¼, SE¼NW¼, E½SW¼, and NW¼SE¼;

Sec. 9, NE¼SW¼ and SE¼SE¼;

Sec. 10, S½SW¼ and SW¼SE¼;

Sec. 11, NW¼SW¼;

Sec. 15, NW¼, W½SW¼, and SE¼SW¼;

Sec. 17, lots 1 and 2, E½SW¼, and SE¼;

Sec. 18, lots 5, 6, 11, and 12, and NW¼NE¼;

Sec. 19, lots 3 and 4, E½SW¼, and S½SE¼;

Sec. 20, E½NE¼, NW¼NE¼, NE¼NW¼, W½SW¼, and SE¼SW¼;

Sec. 21, NE¼, N½NW¼, and S½SW¼;

Sec. 22, NW¼;

Sec. 28, W½NE¼, E½NW¼, NW¼NW¼, and SW¼SW¼;

Sec. 29, W½NE¼, W½, and SE¼;

Sec. 30, lots 1 and 2, N½NE¼, SW¼NE¼, E½NW¼, and SE¼SE¼;

Sec. 31, lots 2 and 3, NE¼NE¼, and SW¼SE¼;

Sec. 32, N½NE¼, SE¼NE¼, N½NW¼, SW¼, W½SE¼, and SE¼SE¼;

Sec. 33, S½NE¼, N½SE¼, and SE¼SE¼;

Sec. 34, NW¼NE¼, N½NW¼, and SW¼SW¼.

T. 35 N., R. 4 E.,

Sec. 2, lot 2, SW¼NE¼, E½SW¼, and NW¼SE¼.

T. 36 N., R. 4 E.,

Sec. 1, lots 1, 2, and 3, S½NE¼, and NE¼SE¼;

Sec. 9, SE¼;

Sec. 10, lots 3 and 4, and E½SW¼;

Sec. 24, lots 1 thru 4, N½NE¼, SW¼NE¼, and NW¼NW¼;

Sec. 25, lots 1 thru 6, NE¼, SE¼NW¼, and N½SW¼;

Sec. 26, SE¼NE¼, E½SE¼, and SW¼SE¼;

Sec. 34, E½NE¼ and SW¼NE¼;

Sec. 35, E½NE¼;

Sec. 36, lots 1, 2, 3, and 5.

T. 37 N., R. 4 E.,

Sec. 34, N½NE¼, SW¼NE¼, and N½NW¼;

Sec. 35, NW¼NW¼.

T. 35 N., R. 5 E.,

Sec. 5, lot 4, SW¼NW¼, and NE¼SW¼;

Sec. 6, lots 1, 2, and 5, and SW¼NE¼.

T. 36 N., R. 5 E.,

Sec. 3, lot 1 and NE¼SE¼;

Sec. 4, W½SW¼;

Sec. 5, SW¼SW¼;

Sec. 6, lot 6, NE¼SW¼, and SE¼SE¼;

Sec. 7, lot 1, N½NE¼, and NE¼NW¼;

Sec. 8, E½NE¼, NW¼NE¼, and W½NW¼;

Sec. 9, NW¼NW¼;

Sec. 14, S½SW¼;

Sec. 18, N½NE¼;

Sec. 19, lots 1 thru 9, N½NE¼, NE¼NW¼, SE¼SW¼, and SW¼SE¼;

Sec. 20, lot 1, lots 5 thru 8, N½, and N½SE¼;

Sec. 21, N½NE1/4, SE¼NE¼, N½NW1/4, N½SW¼, and SE¼SE¼;

Sec. 22, W½NW¼ and E½SE¼;

Sec. 23, W½NE¼, SE¼NE¼, NE¼NW¼, S½SW¼, and SW¼SE¼;

Sec. 26, NW¼NW¼;

Sec. 27, W½NW¼, W½SW¼, SE¼SW¼, and SW¼SE¼;

Sec. 28, SE¼NE¼ and SE¼;

Sec. 29, lots 1 thru 5, lots 7 thru 10, SW¼NW¼, N½SW¼, and SW¼SW¼;

Sec. 30, lots 1 thru 4, E½, E½NW¼, and E½SW¼;

Sec. 31, lots 1 thru 4, lot 6, E½, NE¼NW¼, and SE¼SW¼;

Sec. 32, lots 1 thru 5, E½NE¼, and SW¼NE¼;

Sec. 34, N½NE¼.

T. 37 N., R. 5 E.,

Sec. 29, SE¼SE¼;

Sec. 30, SE¼SW¼.

The areas described aggregate 19,686.09 acres of public mineral estate in Toole and Liberty Counties.

The purpose of the proposed extension is to continue to protect the unique resources within the Sweet Grass Hills ACEC and surrounding areas.

The use of a right-of-way, interagency agreement, or cooperative agreement would not provide adequate protection.

There are no suitable alternative sites available where the withdrawal would facilitate the protection necessary.

No water rights will be needed to fulfill the purpose of the requested withdrawal extension.

All persons who wish to submit comments, suggestions, or objections in connection with the proposed withdrawal extension may present their views in writing to the BLM Havre Field Manager by April 6, 2016, at the address above.

Comments, including names and street addresses of respondents, will be available for public review at the Havre Field Office, 3990 HWY 2 West, Havre, Montana 59501, during regular business hours.

Before including your address, phone number, email address, or other personal identifying information in your comment, be advised that your entire comment—including your personal identifying information—may be made publicly available at any time. While you can ask in your comment to withhold from public review your personal identifying information, we cannot guarantee that we will be able to do so.

Notice is hereby given that a public meeting in connection with the proposed withdrawal extension will be held at the Chester Senior Center, 618 E. Adams Ave., Chester, Montana 59522 on February 10, 2016 from 3 to 5 p.m. The BLM will publish a notice of the time and place in at least one newspaper of general circulation no less than 30 days before the scheduled date of the meeting.

This application will be processed in accordance with the regulations set forth in 43 CFR 2310.4.

Peter A. McFadden,
Chief, Branch of Realty, Lands, and Renewable Energy.

[FR Doc. 2016-00015 Filed 1-6-16; 8:45 am]

BILLING CODE 4310-DN-P